NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 17, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

The applications received are as follows:

1. Applicant

Colin M. Harris, Director, Environmental Research And Assessment, British Antarctic Survey, Madingley Road, High Cross, Cambridge CB3 OET, United Kingdom

[Permit application No. 2001-023]

Activity for Which Permit is Requested: Take and Enter Antarctic Specially Protected Areas. The applicant is undertaking a project, supported by the National Antarctic Programs of the U.S. and U.K., to revise the Management Plans of several Antarctic Specially Protected Areas. The applicant will access these sites to: verify, describe and map features of the areas; conduct an on-site assessment of the features under protection; describe scientific work conducted at the site; assess whether the area continues to serve the purpose for which it was designated; identify and map, using GPS, the protected area boundaries; and, define designated photo points for covering the most import features of the site. In addition, the applicant will collect plant and soil samples from within the sites for later analysis to determine identity of the soil's vegetation and invertebrates.

Location: ASPA 107—Dion Islands, Marguerite Bay, ASPA 108—Green Island, Berthelot Islands, ASPA 113—Litchfield Island, Arthur Harbor, Palmer Archipelago, ASPA 115—Lagotellerie Island, Marguerite Bay, ASPA 117—Avian Island, Marguerite Bay, ASPA 126—Byers Peninsula, Livingston Island, ASPA 139—Biscoe Point, Anvers Island, Palmer Archipelago, ASPA 147—Ablation Point-Ganymede Heights, Alexander Island, ASPA 148—Mount Flora, Hope Bay, Antarctic Peninsula, ASPA 149—Cape Shireff, Livingston Island, South Shetlands, ASPA 153— East Dallmann Bay, off Brabant Island.

Dates: January 1, 2001 to March 31, 2001.
Nadene G. Kennedy,
Permit Officer, Office of Polar Programs.

[FR Doc. 00-27074 Filed 10-19-00; 8:45 am]

BILLING CODE 7555-01-M